DEPARTMENT OF COMMERCE

International Trade Administration

[A-588-874]

Certain Hot-Rolled Steel Flat Products From Japan: Correction to Final Results of Antidumping Duty Changed Circumstances Review

AGENCY: Enforcement and Compliance, International Trade Administration, Department of Commerce.

SUMMARY: The Department of Commerce (Commerce) is correcting the final results of the changed circumstances review of the antidumping duty order on certain hot-rolled steel flat products from Japan to state the actual rate in effect for Nippon Steel Corporation (NSC) on the date that those final results published.

DATES: Applicable September 18, 2019.

FOR FURTHER INFORMATION CONTACT: Leo Ayala or Jun Jack Zhao, AD/CVD Operations, Office VII, Enforcement and Compliance, International Trade Administration, U.S. Department of Commerce, 1401 Constitution Avenue NW, Washington, DC 20230; telephone: (202) 482-3945 or (202) 482-1396, respectively.

Background

On September 5, 2019, Commerce published in the Federal Register the final results of the changed circumstances review (CCR Final Results) of the antidumping duty order ¹ on certain hot-rolled steel flat products from Japan.² As a result of the CCR, we determined that NSC was the successor-in-interest to Nippon Steel & Sumitomo Metal Corporation (NSSMC).³ In the Federal Register notice, we inadvertently stated that the cash deposit rate in effect for NSC on the date the CCR Final Results were published was NSSMC's antidumping duty cash-deposit rate from the underlying investigation (4.99 percent). However, the actual rate in effect for NSC on the date the CCR Final Results were published was NSSMC's rate from the final results of the first administrative review (7.64 percent), published on June 28, 2019, which superseded the 4.99 percent investigation rate.⁴ Therefore, we are correcting the CCR Final Results. This notice serves to correct the NSC rate listed in the CCR Final Results from 4.99 percent to 7.64 percent. No other changes have been made to the CCR Final Results.

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016).

² In the CCR Final Results, we determined that Nippon Steel Corporation (NSC) was the successor-in-interest to Nippon Steel & Sumitomo Metal Corporation (NSSMC) for purposes of determining antidumping duty cash deposits and liabilities. See Certain Hot-Rolled Steel Flat Products from Japan: Notice of Final Results of Antidumping Duty Changed Circumstances Review, 84 FR 46713 (September 5, 2019) (CCR Final Results).

³ Id.

⁴ See Certain Hot-Rolled Steel Flat Products from Japan: Final Results of Antidumping Duty Administrative Review and Final Determination of No Shipments; 2016-2017, 84 FR 31025 (June 28, 2019). This cash deposit requirement shall remain in effect until further notice.

Commerce is issuing and publishing these final results and notice in accordance with sections 751(b)(1) and (4) and 777(i) of the Act, and sections 19 CFR 351.216 and 351.221(c)(3)(i).

Dated: September 11, 2019.
Jeffrey I. Kessler,
Assistant Secretary for Enforcement and Compliance.

[FR Doc. 2019-20175 Filed 9-17-19; 8:45 am]

BILLING CODE 3510-DS-P